ENVIRONMENTAL PROTECTION AGENCY

40 CFR Part 52

[Docket ID-15-6995b; FRL-7232-2]

Approval and Promulgation of Sandpoint, ID, Air Quality Implementation Plan

AGENCY: Environmental Protection Agency (EPA or “we”).

ACTION: Proposed rule.

SUMMARY: The Environmental Protection Agency proposes to approve a State Implementation Plan (SIP) revision submitted for the Sandpoint nonattainment area in the State of Idaho.

Sandpoint was classified as nonattainment for particulate matter with an aerodynamic diameter less than or equal to a nominal 10 micrometers (PM10) pursuant to the Clean Air Act Amendments of 1990. As a result, Idaho was required to submit a plan for bringing the area into attainment. This action proposes to approve the plan for Sandpoint submitted on August 16, 1996.

In the Final Rules section of this Federal Register, the EPA is approving the State's State Implementation Plan submittal as a direct final rule without prior proposal because the Agency views this as a noncontroversial submittal amendment and anticipates no adverse comments. A detailed rationale for the approval is set forth in the direct final rule. If no adverse comments are received in response to this action, no further activity is contemplated. If the EPA receives adverse comments, the direct final rule will be withdrawn and all public comments received will be addressed in a subsequent final rule based on this proposed rule. The EPA will not institute a second comment period. Any parties interested in commenting on this action should do so at this time.

DATES: Written comments must be received on or before July 26, 2002.

ADDRESSES: Send written comments to: Donna Deneen (OAQ-107), Office of Air Quality, at the EPA Regional Office listed below. Copies of the State's request and other information supporting this action are available for inspection during normal business hours at the following locations: Environmental Protection Agency, Region 10, Office of Air Quality, 1200 6th Avenue, Seattle, WA 98101 and the Idaho Department of Environmental Quality, 1420 North Hilton, Boise, Idaho 83706-1255. Interested persons wanting to examine these documents should make an appointment with the appropriate office at least 24 hours before the visiting day.

FOR FURTHER INFORMATION CONTACT: Ms. Donna Deneen (OAQ-107), Office of Air Quality, EPA, 1200 6th Avenue, Seattle, WA 98101, (206) 553-6706.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the Direct Final rule which is located in the Rules section of this Federal Register.

Dated: May 30, 2002.
Ron Kreizenbeck,
Acting Regional Administrator, Region 10.

[FR Doc. 02-16140 Filed 6-25-02; 8:45 am]

BILLING CODE 6560-50-P